DEPARTMENT OF HEALTH AND HUMAN SERVICES

Centers for Disease Control and Prevention

Public Health Service Act, Delegation of Authority

Notice is hereby given that I have delegated to the Director, Center for Surveillance, Epidemiology and Laboratory Services (CSELS), Centers for Disease Control and Prevention (CDC), and the Director, Human Resources Office (HRO), CDC, without authority to redelegate, the authority vested in the Director, CDC/Administrator, Agency for Toxic Substances and Disease Registry (ATSDR), under Section 317F, Title III of the Public Health Service Act, [42 U.S.C. 247b-7, as amended, to carry out a loan repayment program in accordance with Section 317F, guidelines and procedures issued by the Director, CDC/Administrator, ATSDR, CSELS, HRO, and all other applicable federal laws, regulations and policies, in conjunction with the Future Leaders in Infectious and Global Health Threats (FLIGHT) program.

This delegation became effective on June 26, 2019.

Robert R. Redfield,
Director, Centers for Disease Control and Prevention, Administrator, Agency for Toxic Substances and Disease Registry.

[FR Doc. 2019-14255 Filed 7-2-19; 8:45 am]

BILLING CODE 4160-18-P